FEDERAL MARITIME COMMISSION

Notice of Agreements Filed; Correction

AGENCY: Federal Maritime Commission.

Citation of Previous Notice of Agreements Filed: 74 FR 37709, July 29, 2009.

Previous Notice of Agreements Filed Dated: July 24, 2009.

Correction to the Notice of Agreements Filed: All of the Filing Parties and the complete Synopsis of Agreement No. 201204 were not printed in the original Notice. The complete Notice should read as follows:

Agreement No.: 201204.

Title: Port of Houston Authority and Houston Marine Terminal Operators/Freight Handlers Agreement.

Parties: Port of Houston Authority; Ceres Gulf, Inc.; Chaparral Stevedoring Company of Texas, Inc.; CT Stevedoring, Inc. dba Cooper/T. Smith Stevedoring Co.; Ports America Texas, Inc.; GP Terminals LLC; Shippers Stevedoring Company; and SSA Gulf, Inc.

Filing Party: Erik A. Eriksson, Esq.; Port of Houston Authority; Executive Office; 111 East Loop; Houston, TX 77029-4327.

Synopsis: The agreement authorizes the Port of Houston Authority and seven affiliated freight handlers to discuss and voluntarily agree on matters of common interest at the Port of Houston.

Contact Person for More Information: Karen V. Gregory, Secretary, (202) 523-5725.

Tanga S. FitzGibbon,
Assistant Secretary.

[FR Doc. E9-19208 Filed 8-10-09; 8:45 am]

BILLING CODE 6730-01-P